DEPARTMENT OF AGRICULTURE

Agricultural Marketing Service

[Doc. # AMS-FV-11-0052]

United States Standards for Grades of Eggplant

AGENCY: Agricultural Marketing Service, USDA.

ACTION: Notice.

SUMMARY: The Agricultural Marketing Service (AMS), of the Department of Agriculture (USDA), is soliciting comments on the proposed revision to the United States Standards for Grades of Eggplant. AMS is reviewing the fresh fruit and vegetable grade standards for usefulness in serving the industry. As a result, AMS has noted the current grade standards do not have provisions for mixed or specialty packs. Therefore, AMS is proposing to amend the similar varietal characteristic requirement in the U.S. Fancy and No. 1 grades to allow mixed colors and/or types of eggplant when designated as a mixed or specialty pack. In addition, AMS proposes to remove the unclassified section.

DATES: Comments must be received by April 9, 2012.

ADDRESSES: Interested persons are invited to submit written comments to the Standardization and Training Branch, Fresh Products Division, Fruit and Vegetable Programs, Agricultural Marketing Service, U.S. Department of Agriculture, National Training and Development Center, Riverside Business Park, 100 Riverside Parkway, Suite 101, Fredericksburg, VA 22406: Fax (540) 361-1199, or on the Web at: www.regulations.gov. Comments should make reference to the dates and page number of this issue of the Federal Register and will be made available for public inspection in the above office during regular business hours. Comments can also be viewed on the www.regulations.gov Web site. The current United States Standards for Grades of Eggplant will be available either through the address cited above or by accessing the AMS, Fresh Products Division Web site at www.ams.usda.gov/freshinspection.

FOR FURTHER INFORMATION CONTACT: Dr. Carl Newell, at the above address or call (540) 361-1120.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs.

AMS is proposing to revise the voluntary United States Standards for Grades of Eggplant using procedures that appear in Part 36, Title 7 of the Code of Federal Regulations (7 CFR part 36).

Background and Proposed Notice

AMS is reviewing all fresh fruit and vegetable grade standards for usefulness in serving the industry. As a result, AMS has identified the U.S. Standards for Grades of Eggplant similar varietal characteristic requirement for possible updating. AMS has observed that mixing colors and/or types of eggplant in a specialty pack is a current marketing practice. The U.S. grade standards presently require eggplant to be packed with eggplant of similar type, color and character of growth; there are no provisions for mixed or specialty packs. AMS proposes to revise the similar varietal characteristic requirement for the U.S. Fancy and No. 1 grades to allow mixed colors and/or types of eggplant when designated as a mixed or specialty pack. The following language would be added to these two grades: “* * * consists of eggplants of similar varietal characteristics, except when specified as a mixed or specialty pack * * *.” AMS believes that permitting mixed colors and/or type packs will facilitate the marketing of eggplant by providing the industry with more flexibility that reflects current marketing practices and consumer demand.

AMS also proposes to eliminate the “Unclassified” category from the standards. The unclassified section is being removed from all standards when they are revised. This category is not a grade and only serves to show that no grade has been applied to the lot. It is no longer considered necessary.

This notice provides for a 60 day comment period for interested parties to comment on the proposed revisions to the standards.

Authority: 7 U.S.C. 1621-1627.

Dated: February 3, 2012.
Robert C. Keeney,
Acting Administrator, Agricultural Marketing Service.

[FR Doc. 2012-3013 Filed 2-8-12; 8:45 am]

BILLING CODE 3410-02-P